DEPARTMENT OF HEALTH AND HUMAN SERVICES

Administration for Children and Families

Proposed Information Collection Activity; Comment Request

Proposed Projects

Title: Child Welfare Demonstration Projects Information Collection.

OMB No.: New.

Description: Per section 1130 of the Social Security Act as amended by Public Law 112-34, the Administration for Children and Families (ACF), Administration on Children, Youth and Families (ACYF), Children's Bureau (CB) is planning to announce an opportunity for title IV-E agencies to submit proposals for new child welfare waiver demonstration projects. CB is able to approve up to ten child welfare waiver demonstration projects in each of Fiscal Years 2012, 2013 and 2014. These demonstration waiver projects involve the waiver of certain requirements of title IV-E and IV-B. These projects do not provide additional funding to carry out new services; rather they allow more flexible uses of Federal funds in order to test new approaches to service delivery or financing structures in an effort to improve outcomes for children and families involved in the child welfare system. We encourage title IV-E agencies wishing to apply for approval of a waiver demonstration project to submit a letter of intent followed by a full proposal at a later date. For title IV-E agencies that choose to submit a letter of intent, the letter of intent should indicate the title IV-E agency's intent to submit a proposal, and briefly describe the demonstration project, including the nature of the intervention the agency wishes to implement, the target population the agency wishes to serve, the reasons for selecting the proposed project and the evaluation design that the agency is considering. The full proposal must describe the project in extensive detail including the goals identified in statute that the project is intended to accomplish, the geographic areas in which the proposed project will be conducted, the service interventions to be implemented, the impact intervention is expected to have on outcomes related to safety, permanency, well-being, how service provision will change for children and families under the waiver demonstration, a statement of program requirements for waivers needed to conduct the project, an estimate of the projected costs or savings of the proposed project, a description of the proposed evaluation design and an accounting of any other sources of funding that have been used to provide the services that the agency now proposes to address under a waiver demonstration.

Respondents: States.

Annual Burden Estimates
Instrument | Number of respondents | Number of responses per respondent | Average burden hours per response | Total burden hours
Letter of intent | 10 | 1 | 5 | 50
Full proposal | 10 | 1 | 40 | 400

Estimated Total Annual Burden Hours: 450.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden information to be collected; and (e) ways to minimize the burden of the collection of information on respondents, including through the use of automated collection techniques or other forms of information technology. Consideration will be given to comments and suggestions submitted within 60 days of this publication.

Robert Sargis,
Reports Clearance Officer.

[FR Doc. 2012-2320 Filed 2-1-12; 8:45 am]

BILLING CODE 4184-01-P